DEPARTMENT OF COMMERCE

International Trade Administration

A-570-601

Tapered Roller Bearings and Parts Thereof, Finished or Unfinished, from the People's Republic of China: Extension of Time Limit for the Preliminary Results of Antidumping Duty Administrative Review

AGENCY: Import Administration, International Trade Administration, Department of Commerce.

EFFECTIVE DATE: April 28, 2006.

FOR FURTHER INFORMATION CONTACT: Ryan Radford or Eugene Degnan, AD/CVD Operations, Office 8, Import Administration, International Trade Administration, U.S. Department of Commerce, 14th Street and Constitution Avenue, NW, Washington, DC 20230; telephone (202) 482-4037 or (202) 482-0414, respectively.

SUPPLEMENTARY INFORMATION:

Background

On July 21, 2005, the Department of Commerce (“the Department”) published in the Federal Register a notice of the initiation of the antidumping duty administrative review of tapered roller bearings (“TRBs”) from the People's Republic of China (“PRC”) for the period June 1, 2004, through May 31, 2005. See Initiation of Antidumping and Countervailing Duty Administrative Reviews and Request for Revocation in Part, 70 FR 42028 (“Initiation Notice”).

Extension of Time Limit for Preliminary Results

Section 751(a)(3)(A) of the Tariff Act of 1930, as amended (“the Act”), requires the Department to issue preliminary results within 245 days after the last day of the anniversary month of an order. However, if it is not practicable to complete the review within this time period, section 751(a)(3)(A) of the Act allows the Department to extend the time period to a maximum of 365 days. On February 28, 2006, the Department published in the Federal Register a notice extending the time limit for the preliminary results of the administrative review from March 2, 2006, to May 1, 2006. See Extension of Time Limit for the Preliminary Results of Antidumping Duty Administrative Review: Tapered Roller Bearings, and Parts Thereof, Finished or Unfinished from the People's Republic of China 71 FR 10010 (February 28, 2006). The preliminary results of review are currently due no later than May 1, 2006. However, completion of the preliminary results of this review by May 1, 2006, is not practicable because the Department needs additional time to verify the respondent's constructed export price sales in the United States, and its export price sales and factors of production in the PRC.

Because it is not practicable to complete this review within the time specified under the Act, we are extending the time period for issuing the preliminary results of review by an additional 60 days until June 30, 2006, in accordance with section 751(a)(3)(A) of the Act. The final results continue to be due 120 days after the publication of the preliminary results of review.

This notice is published pursuant to sections 751(a) and 777 (i) of the Act.

Dated: April 24, 2006.
Stephen J. Claeys,
Deputy Assistant Secretary for Import Administration.

[FR Doc. E6-6435 Filed 4-27-06; 8:45 am]

BILLING CODE 3510-DS-S